DEPARTMENT OF HOUSING AND URBAN DEVELOPMENT

[Docket No. 5030-FA-05]

Announcement of Funding Awards for the Housing Opportunities for Persons With AIDS (HOPWA) Program Fiscal Year 2006

AGENCY: Office of the Assistant Secretary for Community Planning and Development, HUD.

ACTION: Notice of Funding Awards.

SUMMARY: In accordance with section 102(a)(4)(C) of the Department of Housing and Urban Development Reform Act of 1989, this notice announces 26 grant awards totaling $27,484,189 from the Department's FY2006 Housing Opportunities for Persons With AIDS (HOPWA) program. The notice announces the selection of 16 permanent supportive housing renewal grants and 10 new projects. This notice makes available the names of the award recipients and grant amounts.

FOR FURTHER INFORMATION CONTACT: David Vos, Director, Office of HIV/AIDS Housing, Department of Housing and Urban Development, 451 Seventh Street, SW., Room 7212, Washington, DC 20410, telephone (202) 708-1934. To provide service for persons who are hearing- or speech-impaired, this number may be reached via TTY by dialing the Federal Information Relay Service on (800) 877-TTY, (800) 877-8339, or (202) 708-2565. (Telephone numbers, other than “800” TTY numbers are not toll free.) Information on HOPWA, community development and consolidated planning, and other HUD programs may also be obtained from the HUD Home Page on the World Wide Web. In addition to this competitive selection, 122 jurisdictions received formula based allocations during the 2006 fiscal year for $256.1 million in HOPWA funds. Descriptions of the formula programs may be obtained at http://www.hud.gov.

SUPPLEMENTARY INFORMATION: The FY2006 SuperNOFA (Notice of Funding Availability) for HUD's Discretionary Grant Programs was published in the Federal Register on March 8, 2006 (71 FR 11973). The NOFA announced the availability of approximately $10 million in HOPWA competitive grant funding for new projects.

The purpose of the HOPWA NOFA announcement was to solicit applications for two types of HOPWA competitive grants: (1) Awards for new long-term projects for permanent supporting housing and transitional housing projects from states and units of local government and balance of state areas not eligible for HOPWA formula funding; and (2) awards for new Special Projects of National Significance (SPNS) demonstration grants for transitional, and permanent supportive housing projects. Beginning in 2006, the procedure for expiring permanent supportive housing grants that are eligible for renewal was established in a separate Notice entitled, CPD Notice 06-06, “Standards for Fiscal Year 2006 HOPWA Permanent Supportive Housing Renewal Grant Applications.” The HOPWA assistance made available in the renewal notice and NOFA competition was authorized by the AIDS Housing Opportunity Act (42 U.S.C. 12901), as amended by the Housing and Community Development Act of 1992 (Pub. L. 102-550, approved October 28, 1992) and was appropriated by the HUD Appropriations Act for 2006. The competition was announced in a NOFA published in the Federal Register on March 8, 2006 (71 FR 11973). Each application was reviewed and rated on the basis of selection criteria published in the NOFA. The renewal notice was issued on May 15, 2006.

Public Benefit: The award of HOPWA funds to the 16 renewal and 10 new project awards contribute towards HUD's mission in providing housing support that results in the provision of safe, decent, and affordable housing for persons living with HIV/AIDS and their families who are at risk of homelessness. The 26 selected projects will provide housing assistance to an estimated 1,088 units/households for low-income persons living with HIV/AIDS and their families. The 26 grant awards total $27,484,189 and the selected grant applicants have reported the commitment of approximately $64.6 million in leveraging of other Federal, State, local, or private resources to provide additional supportive services for project beneficiaries.

In accordance with section 102(a) (4) (C) of the Department of Housing and Urban Development Reform Act of 1989 (103 Stat.1987, 42 U.S.C. 3545), the Department is publishing the details of these funding grant announcements in Appendix A.

Recipient | Location | Amount
Fiscal Year 2006 Funding Awards for HOPWA Permanent Supportive Housing Renewal Grants
Alaska Housing Finance Corporation | Anchorage, AK | $716,210
Salvation Army—Alegria Project | Los Angeles, CA | 960,999
Tenderloin AIDS Resource Center | San Francisco, CA | 1,236,000
I.M. Sulzbacher | Jacksonville, FL | 1,186,841
Gregory House Programs | Honolulu, HI | 1,187,034
AIDS Foundation of Chicago | Chicago, IL | 1,191,188
City of Chicago | Chicago, IL | 1,378,384
Interfaith Residence, dba Doorways | St. Louis, MO | 672,805
City of Baltimore | Baltimore, MD | 1,339,000
Frannie Peabody Center | Portland, ME | 1,273,947
Interfaith Residence, dba Doorways | St. Louis, MO | 909,240
State of New Hampshire, Department of Health and Human Services | Concord, NH | 682,533
Asociacion de Puertorriqueños en Marcha, Inc. | Philadelphia, PA | 1,339,000
Burlington Housing Authority | Burlington, VT | 392,009
Downtown Emergency Service Center | Seattle, WA | 787,112
AIDS Resource Center of Wisconsin | Milwaukee, WI | 1,236,000
Total |  | 16,488,302
Fiscal Year 2006 Funding Awards for HOPWA National Projects of Special Significance and Long Term Housing Grants
Ministry of Caring Inc. | Wilmington, DE | 766,320
Chicago House and Social Service Agency, Inc. | Chicago, IL | 1,213,651
Pioneer Civic Services, Inc. | Peoria, IL | 930,596
Community Healthlink, Inc. | Worcester, MA | 846,720
Cambridge Cares About AIDS, Inc. | Cambridge, MA | 1,370,282
City of Portland | Portland, ME | 1,402,577
State of Oregon, Oregon Department of Human Services | Portland, OR | 1,373,293
Kingsport Housing & Redevelopment Authority | Kingsport, TN | 1,067,145
City of Dallas | Dallas, TX | 721,000
Housing Resources Group | Seattle, WA | 1,304,303
Total |  | 10,995,887
Grand Total |  | 27,484,189

[FR Doc. E8-666 Filed 1-15-08; 8:45 am]

BILLING CODE 4210-67-P